DEPARTMENT OF AGRICULTURE

Food and Nutrition Service

Agency Information Collection Activities: Proposed Collection; Comment Request—Nutrition Education Materials for Food and Nutrition Service Population Groups

AGENCY: Food and Nutrition Service, USDA.

ACTION: Notice.

SUMMARY: In accordance with the Paperwork Reduction Act of 1995, this notice invites the general public and other public agencies to comment on a proposed information collection. This information collection is based on the Child Nutrition Act of 1966, as amended, the National School Lunch Act of 1966, as amended, the Food Stamp Act of 1977, as amended, the Agriculture and Consumer Protection Act of 1973, as amended, and the Emergency Food Assistance Act of 1983, as amended. This project is a new collection of information.

DATES: Written comments must be received on or before February 12, 2002.

ADDRESSES: Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on those who are to respond, including use of appropriate automated, electronic, mechanical, or other technological collection techniques or other forms of information technology.

Comments may be sent to Judy F. Wilson, Director, Nutrition Services Staff, Food and Nutrition Service, U.S. Department of Agriculture, 3101 Park Center Drive, Room 1012, Alexandria, VA 22302. Comments may also be faxed to the attention of Judy F. Wilson at (703) 305-2576.

All written comments will be open for public inspection at the office of the Food and Nutrition Service during regular business hours (8:30 a.m. to 5 p.m., Monday through Friday) at 3101 Park Center Drive, Alexandria, Virginia 22302, Room 1012.

All responses to this notice will be summarized and included in the request for Office of Management and Budget (OMB) approval. All comments will be a matter of public record.

FOR FURTHER INFORMATION CONTACT: Requests for additional information should be directed to Judy F. Wilson, (703) 305-2585 or Marion Hinners, (703) 305-2116.

SUPPLEMENTARY INFORMATION: Title: Nutrition Education Materials for FNS Population Groups.

OMB Number: Not yet assigned.

Expiration Date: N/A.

Type of Request: New collection.

Abstract: Diet has a significant impact on the health of citizens and is linked to four leading causes of disease and premature death. Diet also plays a role in the development of other health conditions, which can reduce the quality of life and contribute to premature death. One of FNS' goals includes improving the nutrition of children and low-income families by providing access to program benefits and nutrition education in a manner that supports American agriculture and inspires public confidence.

Materials in support of nutrition education goals will be developed by FNS. Eat Smart. Play Hard.™ (ESPH) is a project geared particularly towards children, including their caregivers, who are eligible for FNS nutrition assistance programs. Components already completed for ESPH consist of a spokes character with accompanying posters, brochures, activity sheets, and a kit of promotional materials.

As part of the Phase II development of ESPH, FNS will develop the following:

1. Additional messages and materials for a subsection of the children and caregivers group, materials for Hispanic children and caregivers as well as public service announcements (PSA's); and

2. An interactive Internet Web site.

In addition to ESPH Phase II, FNS will also develop materials to include:

1. Low-literacy education materials and tools to communicate and promote the implementation of the Dietary Guidelines for Americans; and

2. The conversion of existing English nutrition education materials to appropriate language and culture for the Hispanic audiences.

The materials will be tested using focus groups, short semi-structured interviews, and web-based tools to test the interactive Web site. The groups tested will provide information regarding the acceptability of materials and products during both the developmental process and during the final product development stage. Semi-structured short interviews will be conducted with FNS program recipients, staff, stakeholders and consumer volunteers at the State and local levels to determine acceptability and efficacy of materials and products developed. Interviews will be integrated into other program activities as appropriate.

FNS will also collect information regarding effective nutrition education initiatives being implemented by State agencies that administer nutrition assistance programs to address critical nutrition issues.

Respondents: Recipients of and those persons eligible for FNS nutrition assistance programs, State and local staff administering FNS programs, FNS stakeholders and consumers.

Estimated Number of Respondents: (including padding for variables of recruitment, site activity, etc.)

Phase II of ESPH

Child intercepts—200 respondents × 4 locations = 800 respondents (padded to 1000)

Adult intercepts—200 respondents × 4 locations = 800 respondents (padded to 1000)

Child focus groups—24 grps × 12 respondents/grp = 288 respondents (padded to 300)

Adult focus groups—32 grps × 12 respondents/grp = 384 respondents (padded to 400)

Professional staff—120 respondents

Total = 2272 respondents (padded up to 2700)

Phase II of ESPH Web Site Development

Total = 300 respondents

Dietary Guidelines Low-Literacy Materials

English-speaking intercepts—80 respondents (padded to 100)

Spanish-speaking intercepts—80 respondents (padded to 100)

English-speaking focus groups—12 groups × 10 respondents = 120 respondents

Spanish-speaking focus groups—12 groups × 10 respondents = 120 respondents

Professional staff—30 respondents (padded to 60)

Total = 430 respondents (padded up to 500)

Spanish Conversion

Spanish focus groups—12 groups × 10 respondents = 120 respondents

Spanish intercepts—112 respondents (padded to 130)

Total = 232 respondents (padded to 250)

Grand Total = 3750 respondents.

Number of Responses per Respondent: 15.

Estimated Time per Response:

Total Intercepts (one on one interviews) = 2810 × 30 min (per contractor) = 84,300/60 = 1405 hours.

Total Focus Groups = 1060 × 2 hrs (per contractor) = 2120 hours.

Total Estimated Hours of Burden not to exceed = 3525 hours.

Estimated Total Annual Burden on Respondents: Public reporting burden for this collection of information is estimated to average 3750 respondents with a total estimated burden of 3525 hours.

Dated: December 5, 2001.
George A. Braley,
Acting Administrator, Food and Nutrition Service.

[FR Doc. 01-30835 Filed 12-13-01; 8:45 am]

BILLING CODE 3410-30-U